NATIONAL WOMEN'S BUSINESS COUNCIL

Sunshine Act; Notice of Public Meeting

In accordance with the Women's Business Ownership Act, Public Law 106-554 as amended, the National Women's Business Council (NWBC) would like to announce a forthcoming Council meeting. The meeting will introduce the National Women's Business Council's agenda and action items for fiscal year 2005, included and not limited to procurement, access to capital, access to training and technical assistance, access to markets and affordable health care.

Date: Tuesday, January 18, 2005.

Address: The Small Business Administration, Eisenhower Conference Room, 409 3rd Street, SW., 2nd Floor, Washington, DC.

Time: 9 a.m. to 1 p.m.

Status: Open to the public. Attendance by RSVP only.

Contact: National Women's Business Council, (202) 205-3850—Katherine Stanley.

Anyone wishing to attend or would like to make an oral presentation at the meeting must contact Katherine Stanley, at (202) 205-6695, no later than Monday, January 10, 2005.

Matthew K. Becker,
Committee Management Officer.

[FR Doc. 04-27616 Filed 12-14-04; 10:23 am]

BILLING CODE 8025-01-P